DEPARTMENT OF COMMERCE

International Trade Administration

[A-552-801]

Certain Frozen Fish Fillets From the Socialist Republic of Vietnam: Extension of Time Limit for the Final Results of the Seventh Antidumping Duty Administrative Review

AGENCY: Import Administration, International Trade Administration, Department of Commerce.

DATES: Effective Date: December 29, 2011.

FOR FURTHER INFORMATION CONTACT: Javier Barrientos or Alexis Polovina, AD/CVD Operations, Office 9, Import Administration, International Trade Administration, U.S. Department of Commerce, 14th Street and Constitution Avenue NW., Washington, DC 20230; telephone, (202) 482-2243, or (202) 482-3927, respectively.

Background

On September 9, 2011, the Department of Commerce (“Department”) published in the Federal Register its Preliminary Results of the antidumping duty order on certain frozen fish fillets from the Socialist Republic of Vietnam.¹ Subsequent to the publication of the Preliminary Results, the Department extended the deadlines for submission of surrogate values, rebuttal comments and case briefs.² On December 11, 2011, the Department issued a request for information to the United Nations Food and Agricultural Organization.³ The period of review is August 1, 2009, through July 31, 2010. The final results are currently due no later than January 7, 2012.

¹ See Certain Frozen Fish Fillets From the Socialist Republic of Vietnam: Preliminary Results and Partial Rescission of the Seventh Antidumping Duty Administrative Review, 76 FR 55872 (September 9, 2011) (“Preliminary Results”).

² See Memoranda to Interested Parties: Extending Surrogate Value Submission & Briefing Schedule for 7th Antidumping Administrative Reviews of Certain Frozen Fish Fillets from the Socialist Republic of Vietnam, dated September 27, 2011, October 20, 2011, and November 22, 2011.

³ See Letter from Matthew Renkey, Acting Program Manager, Import Administration, Office 9, to the FAO; RE: Questions for the United Nations Food and Agricultural Organization (“FAO”) Regarding Price Data for Pangasius Fish, dated (December 11, 2011).

Extension of Time Limit for the Final Results

Section 751(a)(3)(A) of the Tariff Act of 1930, as amended (“Act”), requires that the Department issue the final results of an administrative review within 120 days after the date on which the preliminary results are published. If it is not practicable to complete the review within that time period, section 751(a)(3)(A) of the Act allows the Department to extend the deadline for the final results to a maximum of 180 days after the date on which the preliminary results are published.

Due to the issuance of the request for information, voluminous surrogate value data on the record, and additional time provided to parties to review and submit rebuttal comments and case briefs, the Department finds that it is not practicable to review the post-preliminary questionnaires, surrogate value data and analyze the case brief comments within the scheduled time limit. Therefore, in accordance with section 751(a)(3)(A) of the Act, the Department is partially extending the time for the completion of the final results of this review by 60 days to March 7, 2012.

We are issuing and publishing this notice in accordance with sections 751(a) and 777(i)(1) of the Act.

Dated: December 21, 2011.
Gary Taverman,
Acting Deputy Assistant Secretary for Antidumping and Countervailing Duty Operations.

[FR Doc. 2011-33490 Filed 12-28-11; 8:45 am]

BILLING CODE 3510-DS-P